ENVIRONMENTAL PROTECTION AGENCY

[EPA-HQ-OPPT-2016-0698; FRL-9959-46]

Certain New Chemicals; Receipt and Status Information for January 2017

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from January 3, 2017 to January 31, 2017.

DATES: Comments identified by the specific case number provided in this document, must be received on or before April 17, 2017.

ADDRESSES: Submit your comments, identified by docket identification (ID) number EPA-HQ-OPPT-2016-0698, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, Information Management Division (7407M), Office of Pollution Prevention and Toxics, Environmental Protection Agency, 1200 Pennsylvania Ave. NW., Washington, DC 20460-0001; telephone number: 202-564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

This document provides receipt and status reports, which cover the period from January 3, 2017 to January 31, 2017, and consists of the PMNs and TMEs both pending and/or expired, and the NOCs to manufacture a new chemical that the Agency has received under TSCA section 5 during this time period.

III. What is the agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory, please go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 57 PMNs received by EPA during this period, Table 1 provides the following information (to the extent that such information is not claimed as CBI): The EPA case number assigned to the PMN; The date the PMN was received by EPA; the projected end date for EPA's review of the PMN; the submitting manufacturer/importer; the potential uses identified by the manufacturer/importer in the PMN; and the chemical identity.

Table 1—PMNs Received From January 3, 2017 to January 31, 2017
Case No. | Received date | Projected notice end date | Manufacturer importer | Use | Chemical
P-16-0284 | 1/11/2017 | 4/11/2017 | Deepak Nitrite Corporation, Inc | (S) Optical brightener for textiles, paper and paperboard | (G) Anilino substituted bis-triazinyl derivative of 4,4′-diaminostilbene-2,2′disulfonic acid.
P-16-0309 | 1/13/2017 | 4/13/2017 | CBI | (G) PMN substances are intended for use as rheological or thixotropic agents used in the production of solvent based industrial coatings, high solid aromatic paints, adhesives, sealants, and other types of paints and topcoats | (G) 12-Hydroxystearic acid, reaction products with alkylene diamine and alkanoic acid.
P-16-0310 | 1/13/2017 | 4/13/2017 | CBI | (G) PMN substances are intended for use as rheological or thixotropic agents used in the production of solvent based industrial coatings, high solid aromatic paints, adhesives, sealants, and other types of paints and topcoats | (G) 12-Hydroxystearic acid, reaction products with alkylene diamine and alkanoic acid.
P-16-0315 | 1/11/2017 | 4/11/2017 | CBI | (S) Industrial rubber formulation | (G) Alkyldiene, polymer, hydroxy terminated alkoxysilylalkylcarbamate.
P-16-0358 | 1/19/2017 | 4/19/2017 | CBI | (S) Intermediate for further polymer reaction | (G) Alkyl phenol.
P-16-0493 | 1/19/2017 | 4/19/2017 | CBI | (G) Paint | (G) Dicarboxylic acids, polymers with alkyl prop-2-enoate, alkyl 2-methylprop-2-enoate, alkyl [(alkenyl)alkyl]alkanediol, alkanediol, alkanedioic acid, alkyl 2-methylprop-2-enoate, alkyl prop-2-enoic acid, alkylene [isocyanatocarbomonocyle] and alkanediol, alkanolamine-blocked, compds with 2-(alkylamino)alkanol.
P-16-0592 | 1/23/2017 | 4/23/2017 | Santolubes Manufacturing, LLC | (S) This low viscosity diester will be blended with a hgiher viscosity ester to make a high efficiency gear lubricant primarily for worm gear applications | (S) Fatty acids, c8-c10, diesters with alpha-hydro-omega-hydroxypoly(oxy-1,4-butanediyl).
P-17-0007 | 1/24/2017 | 4/24/2017 | CBI | (S) Intermediate | (G) Dialkyl 7,10-dioxa, dithiahexadeca diene.
P-17-0012 | 1/17/2017 | 4/17/2017 | CBI | (S) Polymer mixed with styrene or other reactive monomers. these resins are now unsaturated thermoset polyester resins that are used to make corrosion resistance and high temperature capable composites like chemical resistant tanks, pipe and ducting as well as heat shields and other composites exposed to elevated temperature environments | (S) 1,3-benzenedicarboxylic acid, polymer with 1,2-furandione, 2-methyl-1,3-propanediol and 1,2 propanediol.
P-17-0163 | 1/5/2017 | 4/5/2017 | CBI | (G) Chemical Precursor | (G) Substituted benzofuropyridine.
P-17-0164 | 1/5/2017 | 4/5/2017 | CBI | (G) Intermediate chemical | (G) Substituted benzofuropyridine.
P-17-0168 | 1/18/2017 | 4/18/2017 | CBI | (G) Surfactants | (G) Fatty secondary amide ethanol.
P-17-0168 | 1/18/2017 | 4/18/2017 | CBI | (G) Intermediate | (G) Fatty secondary amide ethanol.
P-17-0169 | 1/18/2017 | 4/18/2017 | CBI | (G) Surfactants | (G) Fatty tertiary amide ethanol.
P-17-0169 | 1/18/2017 | 4/18/2017 | CBI | (G) Intermediate | (G) Fatty tertiary amide ethanol.
P-17-0172 | 1/9/2017 | 4/9/2017 | CBI | (G) Lubricating oil additive | (G) Sulfurized alkylphenol, calcium salts.
P-17-0183 | 1/10/2017 | 4/10/2017 | CBI | (G) Pigment wetting and dispersing additive | (S) 1,3-Propanediol, 2-ethyl-2-(hydroxymethyl)-, polymer with 2-(chloromethyl)oxirane, reaction products with polyethylene-polypropylene glycol 2-aminopropyl me ether.
P-17-0184 | 1/12/2017 | 4/12/2017 | Colonial Chemical, Inc | (S) Firefighting foams | (S) 1-Propanaminium, 2-hydroxy-n, n-dimethyl-n-[3-[(1-oxooctyl-amino]propyl]-3-sulfo-, inner salt.
P-17-0184 | 1/12/2017 | 4/12/2017 | Colonial Chemical, Inc | (S) Transportation washes | (S) 1-Propanaminium, 2-hydroxy-n, n-dimethyl-n-[3-[(1-oxooctyl-amino]propyl]-3-sulfo-, inner salt.
P-17-0184 | 1/12/2017 | 4/12/2017 | Colonial Chemical, Inc | (S) Industrial all-purpose cleaners | (S) 1-Propanaminium, 2-hydroxy-n, n-dimethyl-n-[3-[(1-oxooctyl-amino]propyl]-3-sulfo-, inner salt.
P-17-0184 | 1/12/2017 | 4/12/2017 | Colonial Chemical, Inc | (S) Personal care products, shampoos, facial washes | (S) 1-Propanaminium, 2-hydroxy-n, n-dimethyl-n-[3-[(1-oxooctyl-amino]propyl]-3-sulfo-, inner salt.
P-17-0187 | 1/11/2017 | 4/11/2017 | CBI | (S) Photosensitizing latex, production %: 100.0 optional pollution information: This product provides for self-sanitizing surfaces without heavy metals or mobile toxic chemicals | (G) Polymer with benzoic acid tetra halogen hydroxy tetrahalogen oxo h xanthenyl alkenylaryl alkyl ester alkalai metal salt, butyl-2-propenoate, ethenyl neodecanoate, methyl-2-methyl-2- propenoate and 2-methyl-2-propenoic acid.
P-17-0189 | 1/26/2017 | 4/26/2017 | Double Bond Chemical Industries USA, Inc | (S) Doublemer?278-X25 is a ester acrylate monomer blended with 25% isobornyl methacrylate, which improves adhesion to substrates, such as pp and pe, pet | (G) Polyhalogenatedbicycloalkenedicarboxylic acid, methyl[oxyalkenyl)]ethyl ester.
P-17-0192 | 1/3/2017 | 4/3/2017 | CBI | (S) Polymer with aryl, akyl, diazole and polyol acrylates used as a dispersing additive for pigments in industrial paints and coatings | (G) Polymer with aryl, akyl, diazole and polyol acrylates.
P-17-0194 | 1/4/2017 | 4/4/2017 | CBI | (G) Pigment additive for industrial coatings | (G) Hydrogenated dihalo dialkyl diindolotriphenodioxazine, dihydrodisubstituted isoindolyl alkyl derivs.
P-17-0195 | 1/5/2017 | 4/5/2017 | CBI | (G) For manufacturing modified ethylene vinyl alcohol copolymer | (G) 1,3-Propanediol,2-methylene-, substituted.
P-17-0196 | 1/17/2017 | 4/17/2017 | CBI | (G) Can coating | (G) Styrenated alkyl and epoxidized.
P-17-0197 | 1/6/2017 | 4/6/2017 | CBI | (G) Open dispersive use component in liquid paint coating | (G) Formaldehyde, polymer with arylylpolyamine, 2-(chloromethyl)oxirane and phenol.
P-17-0198 | 1/19/2017 | 4/19/2017 | CBI | (G) Catalyst used in closed processes | (G) Neodymium aluminium alkyl polymer complexes.
P-17-0199 | 1/20/2017 | 4/20/2017 | CBI | (S) Binder in sealant | (G) Oxyalkylene urethane polyolefin.
P-17-0200 | 1/13/2017 | 4/13/2017 | CBI | (S) Monomer for use to manufacture of a high performance polymer | (G) 1,3-Bis(substitutedbenzoyl)benzene.
P-17-0203 | 1/13/2017 | 4/13/2017 | CBI | (G) Crosslinking binder component | (G) Aromatic bis[(ether)(alkyl)phenol].
P-17-0204 | 1/19/2017 | 4/19/2017 | CBI | (S) Monomer for high performance polymer | (G) 1,4-Bis(substitutedbenzoyl)benzene.
P-17-0205 | 1/19/2017 | 4/19/2017 | CBI | (S) Monomer for high performance polymer | (G) Bis(fluorobenzoyl)benzene.
P-17-0205 | 1/19/2017 | 4/19/2017 | CBI | (G) ?n process reagent | (G) Bis(fluorobenzoyl)benzene.
P-17-0207 | 1/23/2017 | 4/23/2017 | CBI | (G) Paint | (G) 2-Alkenoic acid, 2 alkyl, 2 alkyl ester, polymer with alkyl alkenoate, carbomonocyle, alkyl alkenoate and alkyl alkenoate, alkyl peroxide initiated.
P-17-0208 | 1/16/2017 | 4/16/2017 | Alberdingk Boley, Inc | (S) Coating for plastics and metal | (G) Alkanoic acid, hydroxy(hydroxymethyl)-alkyl-, polymer with diisocyanatoalkane, dialkyl carbonate, aldanediol, .alpha.-hydro-.omega.-hydroxypoly(oxyalkanediyl), 1,1′-alkylenebis[isocyanatocycloalkane] and a lactone.
P-17-0208 | 1/16/2017 | 4/16/2017 | Alberdingk Boley, Inc | (S) Coating for leather and plastic | (G) Alkanoic acid, hydroxy(hydroxymethyl)-alkyl-, polymer with diisocyanatoalkane, dialkyl carbonate, aldanediol, .alpha.-hydro-.omega.-hydroxypoly(oxyalkanediyl), 1,1′-alkylenebis[isocyanatocycloalkane] and a lactone.
P-17-0209 | 1/16/2017 | 4/16/2017 | Alberdingk Boley, Inc | (S) Coating for plastic and metal | (G) Alkanoic acid, x-hydroxy-y-(hydroxyalkyl)-y-alkyl-, polymer with dialkyl carbonate, alkanediol, alkylenebis [isocyanatocycloalkane] and lactone, compd. with trialkyl amine.
P-17-0209 | 1/16/2017 | 4/16/2017 | Alberdingk Boley, Inc | (S) Coating for leather and plastic | (G) Alkanoic acid, x-hydroxy-y-(hydroxyalkyl)-y-alkyl-, polymer with dialkyl carbonate, alkanediol, alkylenebis [isocyanatocycloalkane] and lactone, compd. with trialkyl amine.
P-17-0210 | 1/16/2017 | 4/16/2017 | Alberdingk Boley, Inc | (S) Coating for plastic and metal | (G) Alkanoic acid, x-hydroxy-y-(hydroxyalkyl)-x-alkyl-, polymer with dialkyl carbonate, alkanediol, isocyanato-1-(isocyanatoalkyl)-trialkylcycloalkane, alkylenebis[isocyanatocycloalkane] and lactone, polyethylene glycon mono me ether-blocked, compds. with trialkyl amine.
P-17-0210 | 1/16/2017 | 4/16/2017 | Alberdingk Boley, Inc | (S) Coating for leather and plastic | (G) Alkanoic acid, x-hydroxy-y-(hydroxyalkyl)-x-alkyl-, polymer with dialkyl carbonate, alkanediol, isocyanato-1-(isocyanatoalkyl)-trialkylcycloalkane, alkylenebis[isocyanatocycloalkane] and lactone, polyethylene glycon mono me ether-blocked, compds. with trialkyl amine.
P-17-0211 | 1/16/2017 | 4/16/2017 | Alberdingk Boley, Inc | (S) Coating for plastic and metal | (G) Alkanoic acid, x-hydroxy-y-(hydroxyalkyl)-y-alkyl-, polymer with dialkyl carbonate, alkanediol, alkylenebis[iscyanatocycloalkane] and lactone, compd. with trialkylamine.
P-17-0211 | 1/16/2017 | 4/16/2017 | Alberdingk Boley, Inc | (S) Coating for leather and plastic | (G) Alkanoic acid, x-hydroxy-y-(hydroxyalkyl)-y-alkyl-, polymer with dialkyl carbonate, alkanediol, alkylenebis[iscyanatocycloalkane] and lactone, compd. with trialkylamine.
P-17-0212 | 1/16/2017 | 4/16/2017 | Alberdingk Boley, Inc | (S) Coatings for wood, plastic and metal | (G) Aryl dicarboxylic acid, polymer with alkanedioic acid, alkane diol, hydroxy(hydoroxyalkyl) alkanoic acid, alkylenebis[isocyanatoalkane] and [(alkyl alkylidene)bis(aryleneoxy)]bis[alkanol].
P-17-0213 | 1/16/2017 | 4/16/2017 | Alberdingk Boley Inc | (S) Coatings for wood, plastic and metal | (G) Aryldicarboxylic acid, polymer with cycloankandialkanol, alkyldiamine, alkanedioic acid, alkanediol, hydroxy (hydroxyalkyl) alkanoic acid, alkylenebis[isocyanatoalkane] and [(alkylethylidene)bis(phenyleneoxy)]bis[alkanol].
P-17-0214 | 1/16/2017 | 4/16/2017 | Clariant Corporation | (S) Pour point depressant for use in petroleum products | (G) 2-Propenoic acid, polymer with alkene and alkenyl acetate, alkyl 2-alkyl isoalkyl esters.
P-17-0215 | 1/16/2017 | 4/16/2017 | Clariant Corporation | (S) Lubricant for use in metal working fluids | (G) Copolymer of alpha-olefin and dibutyl maleate.
P-17-0216 | 1/27/2017 | 4/27/2017 | CBI | (G) Paint raw material | (G) Acryl-modified epoxy polymer with vegetable oil, fatty acid, acrylates and methacyrlates with organic amine.
P-17-0217 | 1/19/2017 | 4/19/2017 | Ngk Ceramics USA, Inc | (S) Additive to diesel particulate filter manufacture | (S) Coke, (coal), secondary pitch.
P-17-0218 | 1/25/2017 | 4/25/2017 | CBI | (G) Processing aid for membrane production | (S) Bicyclo[2.2.1]heptane-1-methanesulfonic acid, 7,7-dimethyl-2-oxo-, compd. with n,n-diethylethanamine (1:1).
P-17-0219 | 1/27/2017 | 4/27/2017 | CBI | (G) Component of coil coating | (G) Polyester of aliphatic glycols and aromatic diacids.
P-17-0220 | 1/25/2017 | 4/25/2017 | CBI | (G) Additive, open, non-dispersive use | (G) 2-Oxepanone, reaction products with alkylenediamine-alkyleneimine polymer, 2-[[(2-alkyl)oxy]alkyl]oxirane and tetrahydro-2h-pyran-2-one.
P-17-0221 | 1/27/2017 | 4/27/2017 | CBI | (G) Open, non dispersive | (G) Alkylheterocyclic amine blocked isocyanate, alkoxysilane polymer.
P-17-0222 | 1/30/2017 | 4/30/2017 | CBI | (G) Additive, open, non-dispersive use | (G) 1,3,5-Triazine-2,4-diamine, 6-phenyl-, reaction products with polyalkylene glycol mono-alkyl ether and 2,4-tdi.
P-17-0223 | 1/30/2017 | 4/30/2017 | CBI | (G) Additive, open, non-dispersive use | (G) Fatty acids, tall-oil, reaction products with 2-[(2-aminoalkyl)amino]alkanol, compds. with alkylene oxide-glycidyl o-tolyl ether polymer dihydrogen phosphate alkyl ether.

For the 16 NOCs received by EPA during this period, Table 2 provides the following information (to the extent that such information is not claimed as CBI): The EPA case number assigned to the NOC; the date the NOC was received by EPA; the projected date of commencement provided by the submitter in the NOC; and the chemical identity.

Table 2—NOCs Received From January 3, 2017 to January 31, 2017
Case No. | Received date | Commencement date | Chemical
J-16-0036 | 1/12/2017 | 12/15/2016 | (G) Modified organism.
P-11-0176 | 1/3/2017 | 12/12/2016 | (S) Propanoic acid, 3-hydroxy-2-(hydroxymethyl_2-2methyl-, polymer with n1-(2-aminomethyl)-1,2-ethanediamine, hydrazine, alpha-hydro-omega-hydroxypoly(oxy-1,4-butanediyl) and 1,1′-methylenebis[4-isocyanatocyclohexane], diethanolamine-blocked, compounds with 2-(dimethylamino)ethanol.
P-13-0916 | 1/19/2017 | 4/17/2016 | (G) Alkanedioic acid, polymer with alkanediol, bis[n-[4-[(4-isocyanatophenyl)methyl]phenyl]carbamate].
P-14-0711 | 1/19/2017 | 5/3/2016 | (G) Carbonic acid, dimethyl ester, polymer with alkanediol and lactone, bis[n-[4-[(4-isocyanatophenyl)methyl]phenyl]carbamate].
P-14-0851 | 1/19/2017 | 7/24/2016 | (G) Hexanedioic acid, polymer with substituted-alkanediol, alkanediol and alkanediol, bis[n-[4-[(4-isocyanatophenyl)methyl]phenyl]carbamate].
P-14-0852 | 1/19/2017 | 7/24/2016 | (G) Alkanedioic acid, polymer with alkanediol, bis[n-[4-[(4-isocyanatophenyl)methyl]phenyl]carbamate].
P-14-0853 | 1/19/2017 | 7/24/2016 | (G) 1,3-Benzenedicarboxylic acid, polymer with 1,4-benzenedicarboxylic acid, alkanediol and alkanedioic acid, bis[n-[4-[(4-isocyanatophenyl)methyl]phenyl]carbamate].
P-14-0854 | 1/19/2017 | 7/24/2016 | (G) Hexanedioic acid, polymer with alkylene glycol and alkanediol, bis[n-[4-[(4-isocyanatophenyl)methyl]phenyl]carbamate].
P-14-0855 | 1/19/2017 | 4/17/2016 | (G) 1,3-Benzenedicarboxylic acid, polymer with 1,4-benzenedicarboxylic acid, substituted-alkanediol, alkanediol, alkanedioic acid and alkanediol, bis[n-[4-[(4-isocyanatophenyl)methyl]phenyl]carbamate].
P-14-0856 | 1/19/2017 | 4/17/2016 | (G) 1,3-Benzenedicarboxylic acid, polymer with 1,4-benzenedicarboxylic acid, substituted-alkanediol, alkanediol, alkanedioic acid and substituted-glycol diacrylate, bis[n-[4-[(4-isocyanatophenyl)methyl]phenyl]carbamate].
P-14-0857 | 1/19/2017 | 4/17/2016 | (G) 1,3-Benzenedicarboxylic acid, polymer with 1,4-benzenedicarboxylic acid, substituted-alkanediol, alkanediol, and alkanediol, bis[n-[4-[(4-isocyanatophenyl)methyl]phenyl]carbamate].
P-14-0858 | 1/19/2017 | 4/17/2016 | (G) Hexanedioic acid, polymer with substituted alkanediol and alkanediol, bis[n-[4-[(4-isocyanatophenyl)methyl]phenyl]carbamate].
P-15-0558 | 1/13/2017 | 1/6/2017 | (S) 4-Morpholinepropanoic acid, .alpha.-methyl-,methyl ester.
P-16-0172 | 1/6/2017 | 12/13/2016 | (G) 1,3-Propanediol, 2,2-dimethyl-, polymer with diisocyanatoalkane, dialkyl heteromonocycle-blocked.
P-16-0252 | 1/6/2017 | 12/7/2016 | (G) Silane-terminated polyether.
P-16-0323 | 1/3/2017 | 12/18/2016 | (G) Alkylaldehyde, reaction products with substituted carbomonocycle-substituted heteromonocycle-alkylene glycol bis[[[substituted(oxoneoalky)oxy]alkyl]amino]alky] ether polymer and alkyl substituted alkanediamine, acetate salts.

Authority: 15 U.S.C. 2601 et seq.

Dated: March 6, 2017.
Pamela Myrick,
Director, Information Management Division, Office of Pollution Prevention and Toxics.

[FR Doc. 2017-05287 Filed 3-15-17; 8:45 am]

BILLING CODE 6560-50-P